DEPARTMENT OF COMMERCE

Patent and Trademark Office

Agency Information Collection Activities; Submission to the Office of Management and Budget (OMB) for Review and Approval; Comment Request; International Design Application (Hague Agreement)

The United States Patent and Trademark Office (USPTO) will submit the following information collection to the Office of Management and Budget (OMB) for review and clearance in accordance with the Paperwork Reduction Act of 1995, on or after the date of publication of this notice. The USPTO invites comments on this information collection renewal, which helps the USPTO assess the impact of its information collection requirements and minimize the public's reporting burden. Public comments were previously requested via the Federal Register on December 19, 2023 during a 60-day comment period (88 FR 87754). This notice allows for an additional 30 days for public comments.

Agency: United States Patent and Trademark Office, Department of Commerce.

Title: International Design Application (Hague Agreement).

OMB Control Number: 0651-0075.

Needs and Uses: The Patent Law Treaties Implementation Act of 2012 ¹ (PLTIA) amends the patent laws to implement the provisions of the Geneva Act of the Hague Agreement Concerning International Registration of Industrial Designs (hereinafter “Hague Agreement”) in title 1, and the Patent Law Treaty ² (PLT) in title 2. The Hague Agreement is an international agreement that enables an applicant to file a single international design application which may have the effect of an application for protection for the design(s) in countries and/or intergovernmental organizations that are Parties to the Hague Agreement (the “Contracting Parties”) designated in the applications. The United States is a Contracting Party to the Hague Agreement, which took effect with respect to the United States on May 13, 2015. The Hague Agreement is administrated by the International Bureau (IB) of the World Intellectual Property Organization (WIPO) located in Geneva, Switzerland.

¹ https://www.congress.gov/112/plaws/publ211/PLAW-112publ211.pdf.

² https://wipolex.wipo.int/en/text/288773.

Under the Hague Agreement, U.S. applicants can file international design applications in English “indirectly” through the United States Patent and Trademark Office (USPTO), which will forward the applications to the IB or “directly” with the IB. An international design application is subject to the payment of three types of fees: (1) a basic fee, (2) a publication fee, and (3) in respect of each Contracting Party where protection is sought, either in a standard or an individual designation fee. All applications are subject to a three-level structure of standard fees, which reflects the level of examination carried out by the Office of a Contracting Party. Also, an additional fee is required where the application contains a description that exceeds 100 words. In addition, a transmittal fee is required for international design applications filed through an office of indirect filing. Thus, international design applications filed through the USPTO as an Office of indirect filing are subject to payment of a transmittal fee for processing and forwarding the international design applications to the IB. The fees required by the IB may be paid either directly to the IB or through the USPTO as an office of indirect filing in the amounts specified on the World Intellectual Property Organization website. If applicants want to pay the required fees through USPTO as an office of indirect filing, the fees must be paid no later than the date of payment of the transmittal fee. The fees will then be forwarded to the IB. The industrial design or designs will be eligible for protection in all the Contracting Parties designated by applicants.

The IB ascertains whether the international design application complies with formal requirements, registers the international design to the international register, and publishes the international registration in the International Designs Bulletin. The international registration contains all of the data of the international application, any reproduction of the international design, date of the international registration, number of the international registration, and the relevant class of the International Classification.

The IB will provide a copy of the publication of the international registration to each Contracting party designated by the application. A designated Contracting Party may perform a substantive examination of the design application. The USPTO will perform a substantive examination for patentability of the international design application, as in the case of regular U.S. design applications.

This information collection covers all the necessary information required for an international design application that is filed through the USPTO as an Office of indirect filing and those filed directly through the IB. The information in this collection is used to register a design patent under the provisions of the Hague Agreement. The majority of the items are WIPO forms managed by the IB, but this information collection also includes two forms maintained by the USPTO.

Forms: (WIPO DM = WIPO Dessins et Modeles (design representations); PTOL = Patent Trademark Office Legal).

• PTO 1595: (Recordation Form Cover Sheet)

• PTOL 85 Part B (Hague): (Fee(s) Transmittal)

• WIPO DM/1 (E): (Application for International Application)

• WIPO DM/1/I (E): (Annex I: Oath or Declaration of the Creator under Rule 8(1)(a)(ii) of the Common Regulations)

• WIPO DM/1/III (E): (Annex III: Information on Eligibility for Protection under Rule 7(5)(g) and Section 408(d) of the Administrative Instructions)

• WIPO DM/1/IV (E): (Annex IV: Reduction of United States Individual Designation Fee under Section 408(b) of the Administrative Instructions)

• WIPO DM/1/V (E): (Annex V: Supporting Document(s) Concerning Priority Claim under Article 4 of the Paris Convention—Korean Intellectual Property Office (KIPO))

• WIPO DM/7 (E): (Appointment of a Representative)

Two forms listed above are used by the processes covered in this information collection, but receive OMB approval and clearance through other USPTO information collections. These forms are:

• PTO 1595—approved through USPTO information collection 0651-0027 (Recording Assignments)

• PTOL 85 Part B (Hague)—approved through USPTO information collection 0651-0033 (Post Allowance and Refiling)

Type of Review: Extension and revision of a currently approved information collection.

Affected Public: Private sector.

Respondent's Obligation: Required to obtain or retain benefits.

Frequency: On occasion.

Estimated Number of Annual Respondents: 1,231 respondents.

Estimated Number of Annual Responses: 1,231 responses.

Estimated Time per Response: The USPTO estimates that the responses in this information collection will take the public approximately between 15 minutes (0.25 hours) and 6 hours to complete. This includes the time to gather the necessary information, create the document, and submit the completed request to the USPTO.

Estimated Total Annual Respondent Burden Hours: 2,052 hours.

Estimated Total Annual Respondent Non-Hourly Cost Burden: $3,708,240.

This information collection may be viewed at www.reginfo.gov. Follow the instructions to view Department of Commerce, USPTO information collections currently under review by OMB.

Written comments and recommendations for this information collection should be submitted within 30 days of the publication of this notice on the following website, www.reginfo.gov/public/do/PRAMain. Find this particular information collection by selecting “Currently under 30-day Review—Open for Public Comments” or by using the search feature and entering the title of the information collection or the OMB Control Number, 0651-0075.

Further information can be obtained by:

• Email: InformationCollection@uspto.gov. Include “0651-0075 information request” in the subject line of the message.

• Mail: Justin Isaac, Office of the Chief Administrative Officer, United States Patent and Trademark Office, P.O. Box 1450, Alexandria, VA 2313-1450.

Justin Isaac,
Information Collections Officer, Office of the Chief Administrative Officer, United States Patent and Trademark Office.

[FR Doc. 2024-05052 Filed 3-8-24; 8:45 am]

BILLING CODE 3510-16-P